DEPARTMENT OF COMMERCE

Census Bureau

Submission for OMB Review; Comment Request

The Department of Commerce will submit to the Office of Management and Budget (OMB) for clearance the following proposal for collection of information under the provisions of the Paperwork Reduction Act (44 U.S.C. chapter 35).

Agency: U.S. Census Bureau.

Title: Monthly Retail Surveys (Formerly Monthly Retail Trade Survey (MRTS) and Advance Monthly Retail Trade Survey (MARTS)).

OMB Control Number: 0607-0717.

Form Number(s): MRTS: SM-44(17) S, SM-44(17) SE, SM-44(17) SS, SM-44(17) B, SM-44(17) BE, SM-44(17) BS, SM-45(12) S, SM-45(12) SE, SM-45(12) SS, SM-45(12) B, SM-45(12) BE, SM-45(12) BS, SM-72(17) S, and SM-20(17) I. MARTS: SM-44(17) A, SM-44(17) AE, SM-44(17) AS, and SM-72(17) A.

Type of Request: Revision of a currently approved collection.

Number of Respondents: 12,000.

Average Hours per Response: 7 minutes.

Burden Hours: 16,799.

Needs and Uses: The Census Bureau plans to request a revision of the current Office of Management and Budget clearance for the surveys known as the Monthly Retail Trade Survey (MRTS) and the Advance Monthly Retail Trade Survey (MARTS). The MRTS and MARTS are related collections sharing the same initial sampling frame and jointly collect data that are published in conjunction with each other. These two surveys, currently cleared separately under control numbers 0607-0717 and 0607-0104, respectively, will therefore be combined under one control number and will be collectively called the Monthly Retail Surveys (MRS).

The MRS are administered monthly to a sample of employer firms (i.e., businesses with paid employees) with establishments located in the United States and classified in retail trade and/or food services sectors as defined by the North American Industry Classification System (NAICS).

The MRTS provides estimates of monthly retail sales, end-of-month merchandise inventories, and quarterly e-commerce sales of retailers in the United States. In addition, the survey also provides an estimate of monthly sales at food service establishments and drinking places.

Sales, inventories, and e-commerce data provide a current statistical picture of the retail portion of consumer activity. The sales and inventories estimates in the MRTS measure current trends of economic activity that occur in the United States. The survey estimates provide valuable information for economic policy decisions and actions by the government and are widely used by private businesses, trade organizations, professional associations, and others for market research and analysis. The Bureau of Economic Analysis (BEA) uses these data in determining the consumption portion of Gross Domestic Product (GDP).

The MARTS, a subsample of MRTS, began in 1953 as a monthly survey for activity taking place during the previous month. MARTS was developed in response to requests by government, business, and other users to provide an early indication of current retail trade activity in the United States. Retail sales are one of the primary measures of consumer demand for both durable and non-durable goods. MARTS also provides an estimate of monthly sales at food service establishments and drinking places.

Retail and Food Services Sales during 2016 were estimated at $5.5 trillion. The estimates produced in the MRS are critical to the accurate measurement of total economic activity. The estimates of retail sales represent all operating receipts, including receipts from wholesale sales made at retail locations and services rendered as part of the sale of the goods, by businesses that primarily sell at retail. The sales estimates include sales made on credit as well as on a cash basis, but exclude receipts from sales taxes and interest charges from credit sales. Also excluded is non-operating income from such services as investments and real estate.

The estimates of merchandise inventories owned by retailers represent all merchandise located in retail stores, warehouses, offices, or in transit for distribution to retail establishments. The estimates of merchandise inventories exclude fixtures and supplies not held for sale, as well as merchandise held on consignment owned by others. The Bureau of Economic Analysis (BEA) use inventories data to determine the investment portion of the Gross Domestic Product (GDP). We publish retail sales and inventories estimates based on the NAICS.

Retail e-commerce sales are estimated from the same sample used to estimate preliminary and final U.S. retail sales. For coverage of the universe of e-commerce retailers, research was conducted to ensure that retail firms selected in the MRTS sample engaged in e-commerce. Total e-commerce sales for 2016 were estimated at $395 billion.

Sales data for select industries are released in the press release “Advance Monthly Sales for Retail Trade and Food Services,” approximately 10 business days after the close of the reference month, which also includes more detailed estimates for the prior month. Advance inventory estimates for 3 aggregate levels are released in the “Advance Economic Indicator Report” approximately 19 business days after the close of the reference month and the preliminary estimates for inventories data are released in the “Manufacturing and Trade Inventories and Sales” approximately 43 days after the reference month. E-commerce sales estimates are released quarterly as part of the “Quarterly Retail Ecommerce Sales” report, approximately 45 days following the reference period.

Each MRS form has two versions; one with an “E” suffix and one with an “A” Suffix. The forms are identical, except that those with the “E” suffix are sent to smaller firms (which we refer to internally as “EINs”), while those with the “A” suffix are sent to larger firms, which we refer to internally as “alphas”. Thus, there are a total of 36 variants of forms along with their fax counterparts. Forms can be found at https://www.census.gov/retail/get_forms.html.

Please note that with the start of mailing for our next business sample revision for the December 2017 statistical period, we will be removing the leased department forms: SM-45(17) S, SM-45(17) SE, SM-45(17) SS, SM-45(17) B, SM-45(17) BE, and SM-45(17) BS.

The U.S. Census Bureau tabulates the collected data to provide, with measured reliability, statistics on United States retail sales. These estimates are especially valued by data users because of their timeliness.

The sales estimates are used by the Bureau of Economic Analysis (BEA), Council of Economic Advisers (CEA), Federal Reserve Board (FRB), Bureau of Labor Statistics (BLS), and other government agencies, as well as business users in formulating economic decisions.

BEA is the primary Federal user of data collected in the Monthly Retail Surveys. BEA uses the information in its preparation of the National Income and Products Accounts (NIPA), and its benchmark and annual input-output tables. Data on retail sales are used to prepare monthly estimates of the personal consumption expenditures (PCE) component of gross domestic product for all PCE goods categories, except tobacco, prescription drugs, motor vehicles, and gasoline and other motor fuel. These estimates are also published each month in the Personal Income and Outlays press release. If the survey were not conducted, BEA would lack comprehensive data from the retail sector. This would adversely affect the reliability of the NIPA and GDP. Production of the NIPA figures also require inventory figures in order to publish the monthly inventory to sales ratios. Additionally, they use MRS inventory figures to measure changes in inventories for estimates of gross output in the annual Input-Output Accounts tables, as well as for computing annual and quarterly GDP-by-industry statistics.

The Bureau of Labor Statistics (BLS) uses the data as input to their Producer Price Indexes and in developing productivity measurements. The data are also used for gauging current economic trends of the economy. BLS uses the estimates to develop consumer price indexes used in inflation and cost of living calculations.

CEA, other government agencies, and businesses use the survey results to formulate and make decisions. CEA reports the retail data, one of the principal federal economic indicators, to the President each month for awareness on the current picture on the “state of the economy”. In addition, CEA's Macroeconomic Forecaster uses the retail sales data, one of the key monthly data releases each month, to keep track of real economic growth in the current quarter.

Policymakers such as the FRB need to have the timeliest estimates in order to anticipate economic trends and act accordingly.

Private businesses use the retail sales and inventories data to compute business activity indexes. The private sector also uses retail sales as a reliable indicator of consumer activity. In addition, businesses use the estimates to measure how they are performing and predict future demand for their products.

Affected Public: Business or other for-profit.

Frequency: Monthly.

Respondent's Obligation: Voluntary.

Legal Authority: Title 13 U.S.C., Sections 131 and 182.

This information collection request may be viewed at www.reginfo.gov. Follow the instructions to view Department of Commerce collections currently under review by OMB.

Written comments and recommendations for the proposed information collection should be sent within 30 days of publication of this notice to OIRA_Submission@omb.eop.gov or fax to (202) 395-5806.

Sheleen Dumas,
PRA Departmental Lead, Office of the Chief Information Officer.

[FR Doc. 2017-09685 Filed 5-11-17; 8:45 am]

BILLING CODE 3510-07-P